GENERAL SERVICES ADMINISTRATION

Federal Asset Sales (eFAS) Reporting Tool; Notice of GSA Bulletin FMR B-23

AGENCY: Office of Governmentwide Policy, General Services Administration (GSA).

ACTION: Notice of a bulletin.

SUMMARY: This notice announces GSA Federal Management Regulation (FMR) Bulletin B-23 which provides guidance to all agencies selling Federal personal and real property under the provisions of the eFAS program. GSA Bulletin FMR B-23 may be found at http://www.gsa.gov/fmrbulletin.

DATES: The bulletin announced in this notice became effective January 28, 2009.

FOR FURTHER INFORMATION CONTACT: For clarification of content, contact General Services Administration, Office of Governmentwide Policy, Office of Travel, Transportation and Asset Management, at (202) 501-1777. Please cite Bulletin FMR B-23.

SUPPLEMENTARY INFORMATION:

A. Background

The eFAS program features selected agencies facilitating the sale of Federal personal and real property. Agencies selling personal property are called Sales Centers (see FMR section 102-38.40). Agencies hosting sales Web sites for real property are called portal sponsors (see GSA Bulletin FMR 2008-B2). Collectively, these agencies are termed eFAS Sales Agencies.

Currently, eFAS Sales Agencies must manually report all sales they conduct to the eFAS Planning Office. When an eFAS Sales Agency sells property on behalf of another agency, the sales are reported as part of the eFAS Sales Agency performance measures. Agencies not designated as a personal property Sales Center but permitted to sell personal property under an eFAS Planning Office waiver may be required to report their performance measures, depending on the terms of their waiver.

The eFAS Planning Office has completed development of a reporting tool designed to assist eFAS Sales Agencies in reporting their personal property and real property sales.

This notice announces GSA Bulletin FMR B-23 which provides guidance to all agencies selling Federal personal and real property under the provisions of the eFAS program.

B. Procedures

Bulletins regarding asset management are located on the Internet at http://www.gsa.gov/fmrbulletin as Federal Management Regulation (FMR) bulletins.

Dated: February 2, 2009.
Robert Holcombe,
Director, Personal Property Management Policy.

[FR Doc. E9-2547 Filed 2-5-09; 8:45 am]

BILLING CODE 6820-14-P